DEPARTMENT OF TRANSPORTATION

Federal Aviation Administration

14 CFR Part 71

[Docket No. FAA-2024-0383; Airspace Docket No. 24-ASO-2]

RIN 2120-AA66

Amendment of Class D Airspace; Fort Liberty, NC; Correction

AGENCY: Federal Aviation Administration (FAA), DOT.

ACTION: Final rule; correction.

SUMMARY: The FAA is correcting a final rule that was published in the Federal Register on July 18, 2024. The final rule amended Class D airspace extending upward from the surface for Fort Liberty, NC. This action corrects errors in the Class D legal description.

DATES: Effective 0901 UTC, October 31, 2024. The Director of the Federal Register approves this incorporation by reference action under 1 CFR part 51, subject to the annual revision of FAA Order JO 7400.11 and publication of conforming amendments.

ADDRESSES: FAA Order JO 7400.11H, Airspace Designations, and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Justin T. Rhodes, Operations Support Group, Eastern Service Center, Federal Aviation Administration, 1701 Columbia Avenue, College Park, GA 30337; telephone: (404) 305-5478.

SUPPLEMENTARY INFORMATION:

History

The FAA published a final rule in the Federal Register on July 18, 2024 (89 FR 58262) for Docket No. FAA-2024-0383, updating the Class D airspace for Fort Liberty, NC, by excluding 1,400 feet MSL from the vertical limits (previously “including”), updating the airport's geographic coordinates, replacing “Notice to Airmen” with “Notice to Air Missions” in the description, and updating the reference to “Chart Supplement” (previously “Airport Facility Directory”). After publication, the FAA found updates to the FAA's database rendering the Airport Reference Point (ARP) data incorrect, which, as dependent upon the ARP, rendered other airspace description information incorrect. This action corrects these errors.

Correction to the Final Rule

In FR Doc 2024-15483 at 58262, published in the Federal Register on July 18, 2024, the FAA makes the following corrections:

On page 58263, in the second column, correct the ASO NC D description for Fort Liberty, NC, to read as follows:

* * * * *

ASO NC D Simmons AAF, NC [Corrected]

Simmons AAF, NC

(Lat. 35°07′56″ N, long. 78°56′07″ W)

That airspace extending upward from the surface to but not including 1,400 feet MSL within a 3.9-mile radius of Simmons AAF, excluding the portion northwest of a line extending from lat. 35°11′48″ N, long. 78°55′35″ W; to lat. 35°06′19″ N, long. 79°00′27″ W, excluding the portion within the Fayetteville, NC, Class C airspace area. This Class D airspace area is effective during the specific dates and times established in advance by a Notice to Air Missions. The effective date and time will thereafter be continuously published in the Chart Supplement.

* * * * *

Issued in College Park, Georgia, on August 12, 2024
Andreese C. Davis,
Manager, Airspace & Procedures Team South, Eastern Service Center, Air Traffic Organization.

[FR Doc. 2024-18298 Filed 8-15-24; 8:45 am]

BILLING CODE 4910-13-P